COMMISSION OF FINE ARTS

Commission of Fine Arts; Notice of Meeting

The next meeting of the U.S. Commission of Fine Arts is scheduled for 18 June 2009, at 10 a.m. in the Commission offices at the National Building Museum, Suite 312, Judiciary Square, 401 F Street, NW., Washington, DC 20001-2728. Items of discussion may include buildings, parks and memorials.

Draft agendas and additional information regarding the Commission are available on our Web site: http://www.cfa.gov. Inquiries regarding the agenda and requests to submit written or oral statements should be addressed to Thomas Luebke, Secretary, U.S. Commission of Fine Arts, at the above address or call 202-504-2200. Individuals requiring sign language interpretation for the hearing impaired should contact the Secretary at least 10 days before the meeting date.

Dated May 27, 2009 in Washington DC.
Thomas Luebke,
AIA, Secretary.

[FR Doc. E9-12888 Filed 6-3-09; 8:45 am]

BILLING CODE 6330-01-M